FEDERAL COMMUNICATIONS COMMISSION

Radio Broadcasting Services; AM or FM Proposals To Change the Community of License

AGENCY: Federal Communications Commission.

ACTION: Notice.

SUMMARY: The following applicants filed AM or FM proposals to change the community of license: ALOHA STATION TRUST, LLC, Station WROO, Facility ID 68760, BPH-20070119AHS, From GREEN COVE SPRINGS, FL, To BEVERLY BEACH, FL; AMERICAN FAMILY ASSOCIATION, Station WSQH, Facility ID 91176, BMPED-20081021ABC, From FOREST, MS, To MERIDIAN, MS; BILINGUAL BROADCASTING FOUNDATION, INC., Station KBBF, Facility ID 5310, BPED-20081009AIQ, From SANTA ROSA, CA, To CALISTOGA, CA; BROADCAST SOUTH, LLC, Station WVOH-FM, Facility ID 30658, BPH-20081030ACZ, From HAZLEHURST, GA, To NICHOLLS, GA; CHARLES A. HECHT AND ALFREDO ALONSO, Station WVVT, Facility ID 160904, BMP-20081029ADH, From ESSEX JUNCTION, VT, To EAST GREENBUSH, NY; GRACE BROADCASTING SERVICES, INC., Station WFGZ, Facility ID 50126, BPH-20081020AIQ, From LOBELVILLE, TN, To BELLEVUE, TN; GRACE BROADCASTING SERVICES, INC., Station WNKX, Facility ID 27139, BP-20081020AIO, From CENTERVILLE, TN, To LOBELVILLE, TN; HAWKEYE COMMUNICATIONS, INC., Station KCSI, Facility ID 26456, BMPH-20081020AGI, From TREYNOR, IA, To RED OAK, IA; MARIA E. JUAREZ, Station KDIL, Facility ID 161412, BMP-20080708AFX, From DILLON, MT, To JEROME, ID; MARTIN DIRST, Station KYPT, Facility ID 166004, BMPH-20081020AIH, From WAMSUTTER, WY, To DANIEL, WY; MEADOWS MEDIA, LLC, Station KLVF, Facility ID 34441, BPH-20081114AAL, From PECOS, NM, To LAS VEGAS, NM; PJ RADIO, L.L.C., Station WTSX, Facility ID 53036, BPH-20081104AFA, From PORT JERVIS, NY, To LEHMAN TOWNSHIP, PA; SAGA COMMUNICATIONS OF NEW ENGLAND, LLC, Station WSNI, Facility ID 9795, BPH-20081015ABM, From SWANZEY, NH, To KEENE, NH; SAIDNEWSFOUNDATION, Station WJKZ, Facility ID 175750, BMPED-20081014AFJ, From HANOVER, MI, To HOMER, MI; SEA-COMM, INC., Station WLTT, Facility ID 60882, BPH-20081105ACT, From SHALLOTTE, NC, To BOLIVIA, NC; SINCLAIR TELECABLE, INC. D/B/A SINCLAIR COMMUNICATIONS, Station KSXY, Facility ID 43711, BPH-20081009ANC, From CALISTOGA, CA, To FORESTVILLE, CA; ZOE COMMUNICATIONS, INC., Station WDMO, Facility ID 65632, BPH-20081010AOZ, From DURAND, WI, To BALDWIN, WI.

DATES: Comments may be filed through February 6, 2009.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC 20554, telephone 1-800-378-3160 or http://www.BCPIWEB.com.

Federal Communications Commission.
James D. Bradshaw,
Deputy Chief, Audio Division, Media Bureau.

[FR Doc. E8-29000 Filed 12-5-08; 8:45 am]

BILLING CODE 6712-01-P